DEPARTMENT OF ENERGY

Federal Energy Regulatory Commission

[Docket No. RP97-375-013]

Wyoming Interstate Company, Ltd.; Notice of Compliance Filing

August 9, 2000.

Take notice that on July 28, 2000, Wyoming Interstate Company, Ltd. (WIC) tendered for filing Third Revised Sheet No. 4C as part of its FERC Gas Tariff, Volume No. 2, to become effective September 1, 2000.

WIC asserts that the purpose of this filing is to comply with the Commission's orders, issued October 13 and December 21, 1999 in Docket No. RP97-375.

Specifically, this filing calculates new Columbia Exit Fee Surcharge Credits which shall be flowed back to WIC's maximum rate firm and interruptible shippers effective September 1, 2000.

Any person desiring to protest this filing should file a protest with the Federal Energy Regulatory Commission, 888 First Street, N.E., Washington, D.C. 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-20628 Filed 8-14-00; 8:45 am]

BILLING CODE 6717-01-M